INTERNATIONAL TRADE COMMISSION

[Investigation No. 337-TA-806]

Certain Digital Televisions Containing Integrated Circuit Devices and Components Thereof, Notice of Commission Determination Not To Review an Initial Determination Terminating the Investigation as to Sole Respondent Vizio, Inc.; Termination of Investigation

AGENCY: U.S. International Trade Commission.

ACTION: Notice.

SUMMARY: Notice is hereby given that the U.S. International Trade Commission has determined not to review the presiding administrative law judge's (“ALJ”) initial determination (“ID”) (Order No. 10) terminating the investigation with respect to sole respondent Vizio, Inc. (“Vizio”) on the basis of a settlement agreement. The investigation is terminated.

FOR FURTHER INFORMATION CONTACT: Jia Chen, Office of the General Counsel, U.S. International Trade Commission, 500 E Street SW., Washington, DC 20436, telephone (202) 708-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov . The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 19, 2011, based on a complaint filed by Renesas Electronics Corporation (“Renesas”) of Tokyo, Japan. 76 FR 58041 (Sept. 19, 2011). The complaint alleges violations of section 337 of the Tariff Act of 1930, as amended, 19 U.S.C. 1337, by reason of infringement of certain claims of U.S. Patent Nos. 7,199,432 and 6,531,400. The complaint further alleges the existence of a domestic industry. The sole respondent named in the Commission's notice of investigation is Vizio of Irvine, California.

On June 4, 2012, complainant Renesas and respondent Vizio filed a joint motion pursuant to Commission Rule 210.21(a)(2) to terminate the investigation on the basis of a settlement agreement (“Settlement Agreement”) that resolves their litigation. Public and confidential versions of the Settlement Agreement were attached to the motion. The motion also stated that there are no other agreements, written or oral, express or implied, between the parties concerning the subject matter of this investigation. On June 7, 2012, the Commission investigative attorney filed a response supporting the motion.

On June 11, 2012, the ALJ issued the subject ID granting the motion, finding that no extraordinary circumstances exist that would prevent the requested termination of the investigation in its entirety and that the motion fully complies with Commission Rule 210.21. The ID also found that termination of the investigation based on the settlement does not impose any undue burden on the public health and welfare, competitive conditions in the U.S. economy or U.S. consumers. No petitions for review were received.The Commission has determined not to review the ID.

This action is taken under the authority of section 337 of the Tariff Act of 1930, as amended (19 U.S.C. 1337), and Part 210 of the Commission's Rules of Practice and Procedure (19 CFR part 210).

By order of the Commission.
Issued: July 2, 2012.
Lisa R. Barton,
Secretary to the Commission.

[FR Doc. 2012-16592 Filed 7-6-12; 8:45 am]

BILLING CODE P